ENVIRONMENTAL PROTECTION AGENCY

40 CFR Part 300

[FRL-6524-9]

National Oil and Hazardous Substances Pollution Contingency Plan; National Priorities List

AGENCY: Environmental Protection Agency.

ACTION: Direct final deletion of the Katonah Municipal Well Superfund site from the National Priorities List.

SUMMARY: The Environmental Protection Agency (EPA), Region II, announces the deletion of the Katonah Municipal Well site (Site), from the National Priorities List (NPL) and requests public comment on this action. The NPL constitutes appendix B of 40 CFR part 300, which is the National Oil and Hazardous Substances Pollution Contingency Plan (NCP), which EPA promulgated pursuant to section 105 of the Comprehensive Environmental Response, Compensation, and Liability Act (CERCLA), as amended, 42 U.S.C. 9601 et seq. EPA and the New York State Department of Environmental Conservation (NYSDEC) have determined that all appropriate CERCLA actions have been implemented and that, aside from operations and maintenance, no further cleanup by responsible parties is appropriate. Moreover, EPA and NYSDEC have determined that the Site poses no significant threat to public health and the environment.

EFFECTIVE DATES: This “direct final” action will be effective March 20, 2000 unless EPA receives significant adverse or critical comments by February 18, 2000. If written significant adverse or critical comments are received, EPA will publish a timely withdrawal of the rule in the Federal Register, informing the public that the rule will not take effect.

ADDRESSES: Comments should be submitted to: Damian J. Duda, Remedial Project Manager, Emergency and Remedial Response Division, U.S. Environmental Protection Agency, Region II, 290 Broadway, 20th Floor, New York, New York 10007-1866.

Comprehensive information on this Site is available through the public docket contained at: U.S. Environmental Protection Agency, Region II, Superfund Records Center, 290 Broadway, Room 1828, New York, New York 10007-1866, (212) 637-4308, Hours: 9:00 AM to 5:00 PM, Monday through Friday.

Information on the Site is also available for viewing at the following information repository: Katonah Village Library, 28 Bedford Road, Katonah, New York 10536, (914) 232-3508.

FOR FURTHER INFORMATION CONTACT: Mr. Duda may be contacted at the above address, by telephone at (212) 637-4270, by FAX at (212) 637-3966 or via e-mail at duda.damian@epa.gov.

SUPPLEMENTARY INFORMATION:

Table of Contents

I. Introduction

II. NPL Deletion Criteria

III. Deletion Procedures

IV. Basis for Intended Site Deletion

V. Action

I. Introduction

EPA Region II announces the deletion of the Katonah Municipal Well site (Site), located in the Village of Katonah, Town of Bedford, Westchester County, New York, from the National Priorities List (NPL) and requests public comment on this action. The NPL constitutes appendix B of 40 CFR part 300, which is the National Contingency Plan (NCP). EPA identifies sites that appear to present a significant risk to public health or the environment and maintains the NPL as the list of those sites. Sites on the NPL may be the subject of remedial actions financed by the Hazardous Substances Superfund Response Trust Fund (Fund). Pursuant to § 300.425(e)(3) of the NCP, any site deleted from the NPL remains eligible for Fund-financed remedial actions in the unlikely event that conditions at the Site warrant such action.

EPA will accept comments, concerning this document, for thirty days after publication of this document in the Federal Register.

Section II of this document explains the criteria for deleting sites from the NPL. Section III discusses the procedures that EPA is using for this action. Section IV discusses the Katonah Municipal Well site and explains how the Site meets the deletion criteria.

II. NPL Deletion Criteria

The NCP establishes the criteria that the Agency uses to delete sites from the NPL. In accordance with § 300.425(e) of the NCP, sites may be deleted from the NPL where no further response is appropriate. In making this determination, EPA shall consider whether any of the following criteria has been met:

(i) Responsible or other parties have implemented all appropriate response actions required; or,

(ii) All appropriate responses under CERCLA have been implemented, and no further action by responsible parties is appropriate; or,

(iii) The remedial investigation has shown that the release poses no significant threat to public health or the environment and, therefore, taking remedial measures is not appropriate.

Deletion of a site from the NPL does not preclude eligibility for subsequent Fund-financed actions at the Site if future Site conditions warrant such actions. Section 300.425(e)(3) of the NCP provides that Fund-financed actions may be taken at sites that have been deleted from the NPL. Further, deletion of a site from the NPL does not affect the liability of responsible parties or impede Agency efforts to recover costs associated with response efforts.

III. Deletion Procedures

The following procedures are being used for the intended deletion of this Site:

(1) EPA Region II issued a Record of Decision (ROD) in September 1987, which described the selected remedy at the Site.

(2) A Potentially Responsible Party (PRP) designed and constructed the remedy at the Site. EPA and the State of New York oversaw the design and construction activities. EPA prepared a Final Closeout Report, which documents that the remedy was implemented in accordance with the ROD.

(3) A five-year review, dated September 30, 1997, determined that the Site remedies are achieving their objectives and that the treatment system is operating as intended. These remedies remain protective of public health and the environment.

(4) EPA Region II issued a Final Closeout Report, dated January 3, 2000, which found that responsible parties or other persons have implemented all appropriate response actions.

(5) EPA Region II recommends deletion and has made all the relevant documents available in the regional office and local information repository.

(6) NYSDEC has concurred with the deletion decision in a letter dated November 4, 1999.

(7) A notice has been published in a local newspaper and has been distributed to appropriate Federal, state and local officials and other interested parties, announcing a thirty (30) day dissenting public comment period on EPA's Direct Final Action to Delete.

EPA is requesting only dissenting comments on the Direct Final Action to Delete. The NCP provides that EPA shall not delete a site from the NPL until the public has been afforded an opportunity to comment on the proposed deletion. Deletion of a site from the NPL does not affect responsible party liability or impede Agency efforts to recover costs associated with response efforts. The NPL is designed primarily for informational purposes and to assist Agency management of Superfund sites.

EPA Region II will accept and evaluate public comments before making a final decision to delete. If necessary, EPA Region II will prepare a Responsiveness Summary to address any significant comments received during the public comment period.

If EPA does not receive significant adverse or critical comments and/or significant new data submitted during the comment period, the Site will be deleted from the NPL effective March 20, 2000.

IV. Basis for Intended Site Deletion

The Site is located in the Village of Katonah (Village), Town of Bedford (Town), Westchester County, New York and is situated on a narrow peninsula extending eastward into the Muscoot Reservoir, which supplies drinking water to New York City.

Before it was shut down in 1978, the Katonah Municipal Well provided over sixty percent of the water supply for 6,200 people in the Village.

In 1978, the Westchester County Department of Health (WCDOH) first discovered organic contamination, including tetrachloroethylene (also called perchloroethylene (PCE), dibromochloromethane, bromodichloromethane and bromoform, in the Katonah Municipal Well. As a result, the well was shut down permanently.

In 1979, four upgradient dry cleaning establishments were identified as possible contamination sources. The dry cleaning establishments were required by WCDOH to pump out their septic systems and to modify their disposal techniques.

On September 25, 1987, EPA issued a Record of Decision. The selected remedy included (1) construction of a new 370 gpm production well with an air stripper and disinfection unit; (2) controlling contaminant migration through pumping of the production well and treatment of extracted groundwater; (3) filling and sealing the existing Katonah Municipal Well to prevent the further migration of contaminants into the aquifer; (4) monitoring of the treated water to detect the presence of identified contaminants in the treated water; and, (5) general cleanup of the peninsula area to remove construction debris. This remedy is considered a containment remedy. Aquifer restoration is a secondary goal which may be achieved through the ongoing operation of the system.

On July 7, 1989, EPA entered into a Consent Decree with the Town to conduct the remedial action, and construction activities were completed in May 1992.

Construction activities consisted of the installation of (1) a new 370 gpm production well with two pumps, (2) a packed column air stripping tower designed for the removal of 99.4% of PCE to a level of less than 1 part per billion (ppb) in the effluent and (3) a chlorination system for disinfection. Since September 1992, treated water is discharged to the Bedford Consolidated Water District distribution system for use as a drinking water supply. The analyses of the treated water samples from the Katonah Municipal Well show that the levels of PCE continue to be below 1 ppb.

The construction completion of the remedies were documented in a Preliminary Close Out report dated July 7, 1992. A September 30, 1997 five-year review found the remedies to be protective of human health and the environment. The final Close Out Report, dated January 3, 2000, found that the responsible parties or other persons have implemented all appropriate required actions.

Actions remaining to be performed include continuation of the quarterly water quality sampling program and continuation of operation and maintenance activities. The O+M activities for the Site are covered under the regulatory authority established under the Federal Safe Drinking Water Act. This Site is also subject to review of the remedies, selected under CERCLA, every five years in accordance with § 300.430(f)(4)(ii) of the NCP. The next five-year review will be conducted on or before September 30, 2002.

V. Action

The remedy selected for this Site has been implemented in accordance with the Record of Decision. Therefore, no further response action is necessary. The remedy has resulted in the significant reduction of the long-term potential for release of contaminants. Therefore, human health and potential environmental impacts have been minimized. EPA and the State of New York find that the remedy implemented continues to provide adequate protection of human health and the environment.

The State of New York concurs with EPA that the criteria for deletion of the release have been met. Therefore, EPA is deleting the Site from the NPL.

This action will be effective March 20, 2000. However, if EPA receives dissenting comments by February 18, 2000, EPA will publish a document that withdraws this action.

List of Subjects in 40 CFR Part 300

Environmental protection, Chemicals, Hazardous substances, Hazardous wastes, Intergovernmental relations, Penalties, Superfund, Water pollution control, Water supply.

Dated: January 3, 2000.
William J. Muszynski,
Acting Regional Administrator, Region 2.

Part 300, Title 40 of Chapter 1 of the Code of Federal Regulations is amended as follows:

PART 300—[AMENDED]

1. The authority citation for Part 300 continues to read as follows:

Authority: 42 U.S.C. 9601-9657; 33 U.S.C. 1321(c)(2); E.O. 12777, 56 FR 54757, 3 CFR, 1991 Comp.; p. 351; E.O. 12580, 52 FR 2923, 3 CFR, 1987 Comp.; p. 193.

Appendix B—[Amended]

2. Table 1 of appendix B to part 300 is amended by removing the entry for Katonah Municipal Well, Town of Bedford, New York.

[FR Doc. 00-1084 Filed 1-18-00; 8:45 am]

BILLING CODE 6560-50-P